DEPARTMENT OF DEFENSE

Department of the Army

[Docket ID: USA-2008-0068]

Privacy Act of 1974; System of Records

AGENCY: Department of the Army, DoD.

ACTION: Notice to amend a system of records.

SUMMARY: The Department of the Army is amending a system of records notice in its existing inventory of record systems subject to the Privacy Act of 1974 (5 U.S.C. 552a), as amended.

DATES: This proposed action will be effective without further notice on October 31, 2008 unless comments are received that would result in a contrary determination.

ADDRESSES: Department of the Army, Privacy Division, U.S. Army Records Management and Declassification Agency, 7701 Telegraph Road, Casey Building, Suite 144, Alexandria, VA 22325-3905.

FOR FURTHER INFORMATION CONTACT: Ms. Vicki Short at (703) 428-6508.

SUPPLEMENTARY INFORMATION: The Department of the Army systems of records notices subject to the Privacy Act of 1974 (5 U.S.C. 552a), as amended, have been published in the Federal Register and are available from the address above.

The specific changes to the record system being amended are set forth below followed by the notice, as amended, published in its entirety. The proposed amendments are not within the purview of subsection (r) of the Privacy Act of 1974 (5 U.S.C. 552a), as amended, which requires the submission of a new or altered system report.

Dated: September 23, 2008.
Patricia L. Toppings,
OSD Federal Register Liaison Officer, Department of Defense.

A0351 NDU

System name:

NDU National Defense University Student Data Files (February 22, 1993, 58 FR 10002).

Changes:

Change system ID to “DNDU 01”.

* * * * *

System name:

Delete entry and replace with “National Defense University (NDU) Student Data Files.”

* * * * *

Categories of individuals covered by the system:

Delete entry and replace with “Resident/non-resident students enrolled in courses of instruction at The National Defense University (NDU), including the Industrial College of the Armed Forces, Information Resource Management College, National War College, Joint Forces Staff College, and the School for National Security Executive Education.”

* * * * *

Authority for maintenance of the system:

Delete entry and replace with “10 U.S.C. 2165, National Defense University; and E.O. 9397 (SSN).”

* * * * *

Storage:

Delete entry and replace with “Paper records in file folders and electronic storage media.”

Retrievability:

Delete entry and replace with “By Social Security Number or student identification number.”

* * * * *

Notification procedure:

Delete entry and replace with “Individuals seeking to determine whether information about themselves is contained in this system should address written inquiries to the President, National Defense University, Fort Leslie J. McNair, Washington, DC 20319-5000. Individual should provide his/her full name and Social Security Number.”

Record access procedures:

Delete entry and replace with “Individuals seeking access to information about themselves contained in this system should address written inquiries to OSD FOIA Requester Service Center, 1155 Defense Pentagon, Washington, DC 20301-1155. Individual should provide his/her full name and Social Security Number and be signed.”

Contesting record procedures:

Delete entry and replace with “The OSD's rules for accessing records, and for contesting contents and appealing initial agency determinations are contained in Administrative Instruction 81; 32 CFR part 301; or may be obtained from the system manager.”

Record source categories:

Delete entry and replace with “Resident and non-resident students, faculty evaluations and reports or transcripts from educational institutions.”

* * * * *

DNDU 01

System name:

National Defense University (NDU) Student Data Files.

System location:

National Defense University, Fort Leslie J. McNair, Washington, DC 20319-5000.

Categories of individuals covered by the system:

Resident/non-resident students enrolled in courses of instruction at The National Defense University (NDU), including the Industrial College of the Armed Forces, Information Resource Management College, National War College, Joint Forces Staff College, and the School for National Security Executive Education.

Categories of records in the system:

Name, date of birth, Social Security Number, student number, grade/rank, branch of service or civilian agency, years of Federal service, biographical data, course/section assignment, prior education, and academic and other related management data.

Authority for maintenance of the system:

10 U.S.C. 2165, National Defense University; and E.O. 9397 (SSN).

Purpose(s):

To confirm attendance eligibility, monitor student progress, produce record of grades and achievements, prepare assignment rosters; to render management and statistical summaries and reports; and compile class yearbooks.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows: Student transcripts may be disclosed to other educational institutions.

The ‘Blanket Routine Uses’ set forth at the beginning of the Army's compilation of systems of records notices also apply to this system.

Policies and practices for storing, retrieving, accessing, retaining, and disposing of records in the system:

Storage:

Paper records in file folders and electronic storage media.

Retrievability:

By Social Security Number or student identification number.

Safeguards:

Records are maintained in buildings which employ security guards and are accessed only by authorized personnel having an official need-to-know. Automated records employ software passwords; magnetic tapes are protected by user identification and manual controls. Computer room is controlled by card key system requiring positive identification and authorization.

Retention and disposal:

Individual and class academic records are destroyed after 40 years. Records pertaining to extension courses are held indefinitely before being retired to the National Personnel Records Center, St. Louis, MO. Individual training records are destroyed annually; management reports are destroyed when no longer needed.

System manager(s) and address:

President, National Defense University, Fort Leslie J. McNair, Washington, DC 20319-5000.

Notification procedure:

Individuals seeking to determine whether information about themselves is contained in this system should address written inquiries to the President, National Defense University, Fort Leslie J. McNair, Washington, DC 20319-5000.

Individual should provide his/her full name and Social Security Number.

Record access procedures:

Individuals seeking access to information about themselves contained in this system should address written inquiries to OSD FOIA Requester Service Center, 1155 Defense Pentagon, Washington, DC 20301-1155.

Individual should provide his/her full name and Social Security Number and be signed.

Contesting record procedures:

The OSD's rules for accessing records, and for contesting contents and appealing initial agency determinations are contained in Administrative Instruction 81; 32 CFR part 301; or may be obtained from the system manager.

Record source categories:

Resident and non-resident students, faculty evaluations and reports or transcripts from educational institutions.

Exemptions claimed for the system:

None.

[FR Doc. E8-23016 Filed 9-30-08; 8:45 am]

BILLING CODE 5001-06-P